COMMISSION ON CIVIL RIGHTS

Notice of Public Meeting of the Mississippi Advisory Committee; Correction

AGENCY: Commission on Civil Rights.

ACTION: Notice; revision to meeting time.

SUMMARY: The Commission on Civil Rights published a notice in the Federal Register of Tuesday March 17, 2020, concerning a meeting of the Mississippi Advisory Committee. The document contained a meeting time that is now changed.

FOR FURTHER INFORMATION CONTACT: Corrine Sanders, (202) 780-1042, csanders@usccr.gov.

SUPPLEMENTARY INFORMATION:

Correction

In the Federal Register of Tuesday, March 17, 2020, in FR Doc. 2020-05510, on page 15111-15112, third column of 15111 and first column of 15112, correct the time to read: 11:30 a.m. Central Time

Dated: April 13, 2020.
David Mussatt,
Supervisory Chief, Regional Programs Unit.

[FR Doc. 2020-08060 Filed 4-15-20; 8:45 am]

BILLING CODE P